DEPARTMENT OF COMMERCE

National Oceanic and Atmospheric Administration

[RTID 0648-XD822]

Marine Mammals and Endangered Species; File No. 27830

AGENCY: National Marine Fisheries Service (NMFS), National Oceanic and Atmospheric Administration (NOAA), Commerce.

ACTION: Notice; receipt of application.

SUMMARY: Notice is hereby given that Gregory Lewbart, VMD, North Carolina State University, College of Veterinary Medicine, 1060 William Moore Drive, Raleigh, NC 27607, has applied in due form for a permit to import and export marine mammal and protected species parts for scientific research.

DATES: Written, telefaxed, or email comments must be received on or before May 2, 2024.

ADDRESSES: The application and related documents are available for review by selecting “Records Open for Public Comment” from the “Features” box on the Applications and Permits for Protected Species (APPS) home page, https://apps.nmfs.noaa.gov, and then selecting File No. 27830 from the list of available applications. These documents are also available upon written request via email to NMFS.Pr1Comments@noaa.gov.

Written comments on this application should be submitted via email to NMFS.Pr1Comments@noaa.gov. Please include File No. 27830 in the subject line of the email comment.

Those individuals requesting a public hearing should submit a written request via email to NMFS.Pr1Comments@noaa.gov. The request should set forth the specific reasons why a hearing on this application would be appropriate.

FOR FURTHER INFORMATION CONTACT: Malcolm Mohead or Jennifer Skidmore, (301) 427-8401.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), the regulations governing the taking, importing, and exporting of endangered and threatened species (50 CFR parts 222-226), and the Fur Seal Act of 1966, as amended (16 U.S.C. 1151 et seq.).

The applicant proposes to import parts of Galápagos sea lions (Zalophus wollebaeki) and Galápagos fur seals (Arctocephalus galapagoensis) collected in Ecuador to the North Carolina State University, College of Veterinarian Medicine or ZooQuatic Labs, Baltimore, Maryland. Samples will obtained from live animals during health assessments or from dead salvaged animals, including those impacted by boats or fishing equipment. In addition, samples may be exported for additional analyses. The objective of the research is to assess each population's health by analyzing samples collected from up to 50 live and 100 dead animals of each species, annually. The permit would be valid for 5 years from the date of issuance

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: March 27, 2024.
Julia Marie Harrison,
Chief, Permits and Conservation Division, Office of Protected Resources, National Marine Fisheries Service.

[FR Doc. 2024-06862 Filed 4-1-24; 8:45 am]

BILLING CODE 3510-22-P